NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 12, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2019-005

1. Applicant: Bill Davis, VP Operations, Quark Expeditions, 3131 Elliot Avenue, Suite 250, Seattle, WA 98121.

Activity for Which Permit is Requested: Waste Management. The applicant is seeking a waste management permit associated with the operation of the i/b Kapitan Khlebnikov in the Antarctic Peninsula region. The vessel will complete multiple cruises and multiple landings per cruise. Maximum passengers taken ashore at any one time will be limited to 100 persons. Quark would offer activities including shore excursions by Zodiac or helicopter, sightseeing by helicopter, visits to the Snow Hill emperor penguin colony, polar plunges, and vessel-supported short overnight stays (camping). The applicant also proposes to operate a small, battery-operated remotely piloted aircraft system (RPAS) consisting, in part, of a quadcopter equipped with a camera to collect footage for commercial and educational purposes. Mitigation measures would be in place to reduce the risk of non-native species introductions and the risk of spills or releases to the environment. Waste generated during small boat and shore-based activities would be returned to the vessels for proper disposal.

For vessel-supported short overnight stays (camping): Camping would be away from vegetated sites and at least 150m from wildlife concentrations or lakes, protected areas, historical sites, and scientific stations. Tents would be pitched on snow, ice, or bare smooth rock, at least 15m from the high-water line. No food, other than emergency rations, would be brought onshore and all wastes, including human waste, would be collected and returned to the ship for proper disposal. Campers would be limited to 30 passengers plus staff, except at the following sites where campers are limited to 60 passengers plus staff: Damoy Point/Dorian Bay, Danco Island, Pleneau Island, Leith Cove, and Rongé Island. The ratio of staff to passengers would be 1:10. Camping would include overnight stays of any duration, but in accordance with the visitor site guidelines for each site.

For remotely piloted aircraft systems (RPAS) operation: The quadcopter would not be flown over wildlife, or over Antarctic Specially Protected Areas or Historic Sites and Monuments. The RPAS would only be operated by pilots with adequate experience. Several measures would be taken to prevent against loss of the quadcopter including painting the them a highly visible color; only flying when the wind is calm; flying for only 15 minutes at a time to maintain adequate battery charge; having a flotation device for operations over water, and an “auto go home” feature in case of loss of control link or low battery; having an observer on the lookout for wildlife, people, and other hazards; and ensuring that the separation between the operator and quadcopter does not exceed a maximum distance of 300 meters.

Location: Snow Hill Island; Antarctic Peninsula region. For camping: Damoy Point/Dorian Bay, Danco Island, Rongé Island, Errera Channel, Paradise Bay, Andvord Bay, Pleneau Island, Argentine Islands (Winter Island by Wordie House), Hovgaard Island, Orne Harbour, Leith Cove, Prospect Point, Portal Point, Skontorp Cove, Horseshoe Island, Stony Point, Lefevre-Utile, the Naze.

Dates of Permitted Activities: October 1, 2018-March 31, 2019.

Suzanne H. Plimpton,
Reports Clearance Officer, National Science Foundation.

[FR Doc. 2018-19824 Filed 9-11-18; 8:45 am]

BILLING CODE 7555-01-P